DEPARTMENT OF HEALTH AND HUMAN SERVICES

Centers for Disease Control and Prevention

[30Day-08-06BU]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Acting Reports Clearance Officer at 404-639-5960 or send an e-mail to omb@cdc.gov. Send written comments to CDC Desk Officer, Office of Management and Budget, Washington, DC or by fax to (202) 395-6974. Written comments should be received within 30 days of this notice.

Notice of Correction to Burden Table

Proposed Project

The Effectiveness of Teen Safe Driving Messages and Creative Elements on Parents and Teens—New—National Center for Injury Prevention and Control (NCIPC), Centers for Disease Control and Prevention (CDC).

Description of Correction

The previous 30-day Federal Register Notice published on December 26, 2007, Volume 72, No. 246, Page 73022-73023, was submitted with an error showing the number of respondents for the Pre/Post Intervention Survey Screener as 900 and the number of respondents for the Pre/Post Survey as 400. This correction increases the number of respondents to 1800 and 800 respectively.

Background and Brief Description

Car crashes are the number one killer of teens, accounting for approximately one-third of all deaths within this age group. The National Center for Health Statistics reports that in 2004, a total of 3,620 young drivers were killed and an additional 303,000 were injured in motor vehicle crashes. In order to reduce these preventable deaths and injuries, parental awareness and education about Graduated Driver's Licensing (GDL) laws and the ways that parents can influence their children's safe driving are necessary. In preparation for a national campaign to educate parents about their role in their teens' driver education, it is necessary to determine the most effective messages and channels through which to communicate with parents. Ogilvy Public Relations Worldwide, PerformTech, International Communications Research (ICR) Survey and Fieldwork Network, on behalf of CDC, will conduct two studies to assess the appropriateness and impact of messages and creative materials intended to (a) increase parental involvement in their teen's driving education and experience, and (b) encourage teens to adopt safer driving practices.

The first information collection will be accomplished through focus group testing of campaign messages and materials with representatives from our target audiences, parents and teens, in two cities in the U.S. The findings will provide valuable information regarding parents' and teens' levels of awareness and concern about safe driving; motivators for behavior change, especially GDL compliance; and message/channel preferences. The information collected will be used to develop final creative materials to implement the teen safe driving campaign in pilot cities. The second information collection will be accomplished through pilot city testing, which will evaluate knowledge, attitude, and behaviors of intended audiences both pre- and post communications campaign. The campaign will target parents of newly licensed drivers. It will encourage parents to understand state regulations regarding new drivers, talk with their teens about safe driving practices, and both manage and monitor their teens' driving behavior. Testing will be conducted through brief telephone surveys intended to assess knowledge, attitudes, and behaviors of parents and teens related to safe driving practices, GDL laws, and parental management of new drivers before and after the campaign; with the goal of observing a marked increase in parental management at the time of the post campaign survey.

There is no cost to the respondents other than their time. The total estimated annualized burden hours are 292.

Estimated Annualized Burden Hours
Type of respondent | Form | Number of respondents | Number of responses per respondent | Average burden per respondent (in hours)
Parents | Parent Focus Group Screener | 70 | 1 | 1/60
Teens | Teen Focus Group Screener | 35 | 1 | 1/60
Parents | Parent Focus Group Questions | 20 | 1 | 2
Teens | Teen Focus Group Questions | 10 | 1 | 2
Parents | Pre/Post Intervention Survey Screener | 1800 | 1 | 1/60
Parents | Pre/Post Intervention Survey | 800 | 1 | 15/60

Dated: January 9, 2008.
Maryam I. Daneshvar,
Acting Reports Clearance Officer, Centers of Disease Control and Prevention.

[FR Doc. E8-842 Filed 1-17-08; 8:45 am]

BILLING CODE 4163-18-P